DEPARTMENT OF ENERGY

Senior Executive Service Performance Review Board

AGENCY: Department of Energy.

ACTION: Designation of Performance Review Board Chair.

SUMMARY: This notice provides the Performance Review Board Chair designee for the Department of Energy. This listing supersedes all previously published lists of Performance Review Board Chair.

DATES: This appointment is effective as of September 30, 2015: Dennis M. Miotla.

Issued in Washington, DC: October 23, 2015.
Erin S. Moore,
Acting Director, Office of Corporate Executive Management, Office of the Chief Human Capital Officer.

[FR Doc. 2015-27724 Filed 10-29-15; 8:45 am]

BILLING CODE 6450-01-P